DEPARTMENT OF VETERANS AFFAIRS

Advisory Committee on Disability Compensation, Notice of Meeting

The Department of Veterans Affairs (VA) gives notice under the Federal Advisory Committee Act, that the Advisory Committee on Disability Compensation (Committee) will meet on August 6-8, 2019 at the St. Petersburg VA Regional Office (RO), located at 9500 Bay Pines Boulevard, North Conference Room 3rd Floor, Bay Pines, Florida 33744. Additionally, the Committee will meet at Bay Pines VA Medical Center, 10000 Bay Pines Boulevard, Bay Pines, Florida 33708. The meeting sessions will begin and end as follows:

Date | Time | Location
August 6, 2019 | 8:30 a.m. to 4:30 p.m | St. Petersburg VA Regional Office, 3rd Floor North Conference Room, 9500 Bay Pines Blvd., Bay Pine, FL 33744.
August 7, 2019 | 8:30 a.m. to 4:30 p.m | St. Petersburg VA Regional Office, 3rd Floor North Conference Room, 9500 Bay Pines Blvd., Bay Pine, FL 33744.
August 8, 2019 | 8:30 a.m. to 11:30 a.m | St. Petersburg VA Regional Office, 3rd Floor North Conference Room, 9500 Bay Pines Blvd., Bay Pine, FL 33744.
August 8, 2019 | 12:30 p.m. to 3:00 p.m | Bay Pines VA Medical Center, 10000 Bay Pines Blvd, Bay Pines, FL 33708.

Sessions are open to the public, except when the Committee is conducting tours of VA facilities, and participating in off-site events. Tours of VA facilities are closed to protect Veterans' privacy and personnel information, in accordance with 5 U.S.C. Sec. 552b(c)(6).

The purpose of the Committee is to advise the Secretary of Veterans Affairs on the maintenance and periodic readjustment of the VA Schedule for Rating Disabilities. The Committee is to assemble and review relevant information relating to the nature and character of disabilities arising during service in the Armed Forces, provide an ongoing assessment of the effectiveness of the rating schedule, and give advice on the most appropriate means of responding to the needs of Veterans relating to disability compensation.

On the morning of August 6, 2019 from 8:30 a.m. to 10:00 a.m., the Committee will meet in open session with key staff members at the St. Petersburg VA RO to discuss the productivity of the RO. From 10:00 a.m. to 11:30 a.m., the Committee will convene with a closed tour of the RO. Tours of VA facilities are closed to protect Veterans' privacy and personal information, in accordance with 5 U.S.C Sec. 552b(c)(6). In the afternoon from 12:30 p.m. to 3:00 p.m., the Committee will reconvene in open session to receive briefings on the intake and claims establishment process from the RO. From 3:30 p.m. to 4:30 p.m., the Committee will work on drafting recommendations for the annual report to the Secretary.

On August 7, 2019 from 8:30 a.m. to 2:00 p.m., the Committee will meet in open session to receive briefings on the development and the completion process of VA claims from the RO. From 2:00 p.m. to 4:30 p.m., the Committee will work on drafting recommendations for the annual report to the Secretary.

On the morning of August 8, 2019 from 8:30 a.m., to 11:30 a.m., the Committee will convene in an open session to receive briefings on the VA Appeals process from the St. Petersburg Decision Review Operations Center (DROC). In the afternoon from 12:30 p.m. to 3:00 p.m., the Committee will convene with a closed tour of the Bay Pines VA Medical Center. Tours of VA facilities are closed to protect Veterans' privacy and personal information, in accordance with 5 U.S.C Sec. 552b(c)(6).

No time will be allocated at this meeting for receiving oral presentations from the public. However, the public may submit written statements for the Committee's review to Ms. Janice Stewart, Department of Veterans Affairs, Veterans Benefits Administration, Compensation Service, Policy Staff (211B), 810 Vermont Avenue NW, Washington, DC 20420 or email at Janice.Stewart@va.gov. Any member of the public wishing to attend the meeting or seeking additional information should contact Mrs. Janice Stewart at (202) 461-9023.

Dated: July 24, 2019.
Jelessa M. Burney,
Federal Advisory Committee Management Officer.

[FR Doc. 2019-16042 Filed 7-26-19; 8:45 am]

BILLING CODE P